DEPARTMENT OF TRANSPORTATION

Federal Aviation Administration

14 CFR Part 39

[Docket No. FAA-2007-0109; Directorate Identifier 2007-NM-235-AD]

RIN 2120-AA64

Airworthiness Directive; Lockheed Model 382, 382B, 382E, 382F, and 382G Series Airplanes

AGENCY: Federal Aviation Administration (FAA), Department of Transportation (DOT).

ACTION: Notice of proposed rulemaking (NPRM).

SUMMARY: The FAA proposes to adopt a new airworthiness directive (AD) for all Lockheed Model 382, 382B, 382E, 382F, and 382G series airplanes. This proposed AD would require revising the FAA-approved maintenance inspection program to include inspections that will give no less than the required damage to tolerance rating for each structural significant item (SSI), doing repetitive inspections to detect cracks of all SSIs, and repairing cracked structure. This proposed AD results from a report of incidents involving fatigue cracking and corrosion in transport category airplanes that are approaching or have exceeded their design service objective. We are proposing this AD to maintain the continued structural integrity of the entire fleet of Model 382, 382B, 382E, 382F, and 382G series airplanes.

DATES: We must receive comments on this proposed AD by December 31, 2007.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this AD, contact Lockheed Martin Corporation/Lockheed Martin Aeronautics Company, Airworthiness Office, Dept. 6A0M, Zone 0252, Column P-58, 86 S. Cobb Drive, Marietta, Georgia 30063.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone 800-647-5527) is in the ADDRESSES section. Comments will be available in the AD docket shortly after receipt.

FOR FURTHER INFORMATION CONTACT: Carl Gray, Aerospace Engineer, Airframe Branch, ACE-117A, FAA, Atlanta Aircraft Certification Office, One Crown Center, 1895 Phoenix Boulevard, Suite 450, Atlanta, Georgia 30349; telephone (770) 703-6131; fax (770) 703-6097.

SUPPLEMENTARY INFORMATION:

Comments Invited

We invite you to send any written relevant data, views, or arguments about this proposed AD. Send your comments to an address listed under ADDRESSES section. Include “Docket No. FAA-2007-0109; Directorate Identifier 2007-NM-235-AD” at the beginning of your comments. We specifically invite comments on the overall regulatory, economic, environmental, and energy aspects of this proposed AD. We will consider all comments received by the closing data and may amend this proposed AD because of those comments.

We will post all comments we received, without change, to http://www.regulations.gov, including any personal information you provide. We will also post a report summarizing each substantive verbal contact we receive about this proposed AD.

Discussion

In the early 1980s, as part of its continuing work to maintain the structural integrity of older transport category airplanes, the FAA concluded that the incidence of fatigue cracking may increase as these airplanes reach or exceed their design service objective (DSO). In light of this, and as a result of increased utilization and longer operational lives, we determined that a supplemental structural inspection program (SSIP) was necessary to maintain the continued structural integrity for all airplanes in the transport fleet.

Issuance of Advisory Circular (AC)

As a follow-on from that determination, we issued AC No. 91-56 “Supplemental Structural Inspection Program for Large Transport Category Airplanes,” dated May 6, 1981. That AC provides guidance material to manufacturers and operators for use in developing a continuing structural integrity program to ensure safe operation of older airplanes throughout their operational lives. This guidance material applies to transport airplanes that were certified under the fail-safe requirements of part 4b (“Airplane Airworthiness, Transport Categories”) of the Civil Air Regulations or damage tolerance structural requirements of part 25 (“Airworthiness Standards: Transport Category Airplanes”) of the Federal Aviation Regulations (FAR) (14 CFR part 25), and that have a maximum gross weight greater than 75,000 pounds. The procedures set forth in that AC are applicable to transport category airplanes operated under subpart D (“Special Flight Operations”) of part 91 of the FAR (14 CFR part 91); part 121 (“Operating Requirements: Domestic, Flag, and Supplemental Operations”); part 125 (“Certification and Operations: Airplanes having a Seating Capacity of 20 or More Passengers or a Maximum Payload of 6,000 Pounds or More”); and part 135 (“Operating Requirements: Commuter and On-Demand Operations”) of the FAR (14 CFR parts 121, 125, and 135). The objective of the SSIP was to establish inspection programs to ensure timely detection of fatigue cracking.

Development of the SSIP

In order to evaluate the effect of increased fatigue cracking with respect to maintaining fail-safe design and damage tolerance of the structure of Lockheed Model 382, 382B, 382E, 382F,and 382G series airplanes, Lockheed conducted a structural easement of those airplanes, using damage tolerance evaluation techniques. Lockheed accomplished this reassessment using the criteria contained in AC No. 91-56, as well as Amendment 25-45 of section 25.571 (“Damage-tolerance and fatigue evaluation of structure”) of the FAR (14 CFR 25.571). During the reassessment, members of the airline industry participated with Lockheed in working group sessions and developed the SSIP for Lockheed Model 382, 382B 382E, 382F, and 382G series airplanes. Engineers and maintenance specialist from the FAA also supported these sessions. Subsequently, based on the working groups's recommendations, Lockheed developed the Supplemental Structural Inspection Document (SSID).

Revelant Service Information

We have reviewed Lockheed Martin Model 382, 382B, 382E, 382F, and 382G Series Aircraft Service Manual Publication (SMP), Supplemental Structural Inspection Document, SMP 515-C-SSID, Change 1, dated September 10, 2007 (hereafter “the SSID”). The SSID describes procedures for revising the FAA-approved maintenance inspection program to include inspections that will give no less than the required damage tolerance assessment/analysis (DTA) for each supplemental significant item (SSI), and doing repetitive inspections to detect cracks of all SSIs. Accomplishing the actions specified in the SSID is intended to adequately address the unsafe condition.

FAA's Determination and Requirements of the Proposed AD

We have evaluated all pertinent information and identified an unsafe condition that is likely to exist or develop on other airplanes of the same type design. For this reason, we are proposing this AD, which would require the following actions:

Paragraph (g) of the proposed AD would require incorporation of a revision into the FAA-approved maintenance inspection program that provides no less than the required damage tolerance rating (DTR) for each SSI listed in the SSID.

Paragraph (h) of the proposed AD would require repetitive inspections to detect cracks of all SSIs.

Paragraph (n) of the proposed AD would require repairing any cracked structure in accordance with the method approved by the FAA.

Paragraph (o) of the proposed AD specifies the requirements of the inspection program for transferred airplanes. Before any airplane that is subject to this proposal AD can be added to an air carrier's operations specifications, a program for doing the inspections required by this proposed AD must be established.

Differences Between the Proposed AD and Service Information

Section 6.0, “Structural Inspection Requirements” of the SSID specifies a threshold for accomplishing the initial inspections; however, it does not specify a grace period for airplanes that are near or have passed that threshold. This proposed AD would allow a grace period of 36 months after the effective date of the AD to initiate the applicable inspections to detect cracks of all SSIs. In addition, this proposed AD would require incorporation of the SSID into the FAA-approved maintenance inspection program within 12 months after the effective date of the AD.

The SSID does not specify instructions on how to repair certain conditions. This proposed AD would require operators to repair those conditions using a method approved by the FAA.

These differences have been coordinated with Lockheed.

Cost of Compliance

There are about 91 airplanes of the affected design in the worldwide fleet. The following table provides the estimated costs for U.S. operators to comply with this proposed AD.

Estimated Costs
Action | Work hours | Average labor rate per hour | Cost | Number of U.S.-registered airplanes | Fleet cost
Revision of maintenance inspection program | 600 | $80 | $48,000 per airplane | 14 | $672,000.
Inspections | 2,724 | 80 | $217,920, per airplane, per inspection cycle | 14 | $3,050,880, per inspection cycle.

The number of inspection work hours, as indicated above, is presented as if the accomplishment of the actions in this proposed AD are to be conducted as “stand alone” actions. However, in actual practice, these actions for the most part will be done coincidentally or in combination with normally scheduled airplane inspections and other maintenance program tasks. Therefore, the actual number of necessary additional inspection work hours will be minimal in many instances. Additionally, any costs associated with special airplane scheduling will be minimal.

Further, compliance with this proposed AD would be a means of compliance with the aging airplane safety final rule (AASFR) for the baseline structure of Model 382, 382B, 382E, 382F, and 382G series airplanes. The AASFR final rule requires certain operators to incorporate damage tolerance inspections into their maintenance inspection programs. These requirements are described in 14 CFR 121.370(a) and 129.16. Accomplishment of the actions required by this proposed AD will meet the requirements of these CFR sections for the baseline structure. The costs for accomplishing the inspection portion of this proposed AD were accounted for in the regulatory evaluation of the AASFR final rule.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determine that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

Lockheed: Docket No. FAA-2007-0109; Directorate Identifier 2007-NM-235-AD.

Comments Due Date

(a) The FAA must receive comments on this AD action by December 31, 2007.

Affected ADs

(b) None.

Applicability

(c) This AD applies to all Lockheed Model 382, 382B, 382E, 382F, and 382G series airplanes, certificated in any category.

Unsafe Condition

(d) This AD results from a report of incidents involving fatigue cracking and corrosion in transport category airplanes that are approaching or have exceeded their design service objective. We are issuing this AD to maintain the continued structural integrity of the entire fleet of Lockheed Model 382, 382B, 382E, 382F, and 382G series airplanes.

Compliance

(e) You are responsible for having the actions required by this AD performed within the compliance times specified, unless the actions have already been done.

Service Information

(f) The term “the SSID,” as used in this AD, means Lockheed Martin Model 382, 382B, 382E, 382F, and 382G Series Aircraft Service Manual Publication (SMP), Supplemental Structural Inspection Document, SMP 515-C-SSID, Change 1, dated September 10, 2007.

Revision of the FAA-Approved Maintenance Inspection Program

(g) Within 12 months after the effective date of this AD, incorporte a revision into the FAA-approved maintenance inspection program that provides no less than the required damage tolerance assessment/analysis (DTA) for each structural significant item (SSI) listed in the SSID. (The required DTA value for each SSI is listed in the SSID.) The revision to the maintenance inspection program must include and must be implemented in accordance with the procedures in Section 5.0, “Damage Tolerance Analysis Methodology,” and Section 7.0, “Discrepancy Reporting,” of the SSID. Under the provisions of the Paperwork Reduction Act of 1980 (44 U.S.C. 3501, et seq.), the Office of Management and Budget (OMB) has approved the information collection requirements contained in this AD and has assigned OMB Control Number 2120-0056.

Initial and Repetitive Inspections

(h) At the later of the times specified in paragraphs (h)(1) and (h)(2) of this AD, except as provided by paragraphs (i) through (m) of this AD: Do the applicable initial inspections to detect cracks of all SSIs, in accordance with the SSID. Repeat the applicable inspections thereafter at intervals not to exceed the “Recurring” intervals specified in Section 6.0.0 of the SSID, except as provided by paragraphs (k) through (m) of this AD.

(1) Before the applicable “Initial” threshold specified in Section 6.0.0, “Structural Inspection Requirements” of the SSID.

(2) Within 36 months after the effective date of this AD, or within one “Recurring” interval measured from 12 months after the effective date of the AD, whichever comes first.

Exceptions to the SSID

(i) Where Section 6.0.0 of the SSID specifies the “Initial” threshold in years (since new), this AD requires compliance within the specified year since the date of issuance of the original standard airworthiness certificate or the date of issuance of the original export certificate of airworthiness.

(j) Where Section 6.0 of the SSID specifies the “Initial” threshold as “Special Condition,” this AD requires compliance within 24 months after the effective date of this AD.

(k) Where Section 6.0 of the SSID specifies the “Initial” threshold and “Recurring” interval as “FS 1041 Fitting Replacement,” this AD requires compliance within 24 months after the effective date of this AD and thereafter at intervals not to exceed 12 months.

(l) Where Section 6.0 of the SSID specifies the “Initial” threshold and “Recurring” interval as “Engine Change,” this AD requires compliance within 24 months after the effective date of this AD and thereafter at intervals not to exceed 36 months.

(m) Where Section 6.0 of the SSID specifies the “Initial” threshold and “Recurring” interval as “Aft Lord Mount Change,” this AD requires compliance within 24 months after the effective date of this AD and thereafter at intervals not to exceed 24 months.

Repair

(n) If any cracked structure is found during any inspection required by paragraph (h) of this AD, before further flight, repair the cracked structure using a method approved by the Manager, Atlanta Aircraft Certification Office (ACO), FAA. For a repair method to be approved by the Manager, Atlanta ACO, as required by this paragraph, the Manager's approval letter must specifically refer to this AD.

Inspection Program for Transferred Airplanes

(o) Before any airplane that is subject to this AD and that has exceeded the applicable compliance times specified in paragraph (h) of this AD can be added to an air carrier's operations specifications, a program for the accomplishment of the inspections required by this AD must be established in accordance with paragraph (o)(1) or (o)(2) of this AD, as applicable.

(1) For airplanes that have been inspected in accordance with this AD: The inspection of each SSI must be done by the new operator in accordance with the previous operator's schedule and inspection method, or the new operator's schedule and inspection method, at whichever time would result in the earlier accomplishment for that SSI inspection. The compliance time for accomplishment of this inspection must be measured from the last inspection accomplished by the previous operator. After each inspection has been done once, each subsequent inspection must be performed in accordance with the new operator's schedule and inspection method.

(2) For airplanes that have not been inspected in accordance with this AD: The inspection of each SSI required by this AD must be done either before adding the airplane to the air carrier's operations specification, or in accordance with a schedule and an inspection method approved by the Manager, Atlanta Aircraft Certification Office (ACO), FAA. After each inspection has been done once, each subsequent inspection must be done in accordance with the new operator's schedule.

Alternative Methods of Compliance (AMOCs)

(p)(1) The Manager, Atlanta ACO, has the authority to approve AMOCs for this AD, if required in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

Issued in Renton, Washington, on October 23, 2007.
Stephen P. Boyd,
Assistant Manager, Transport Airplane Directorate, Aircraft Certification Service.

[FR Doc. 07-5595 Filed 11-13-07; 8:45 am]

BILLING CODE 4910-13-M